FEDERAL COMMUNICATIONS COMMISSION

47 CFR Part 73

[DA 00-2360; MM Docket No. 00-82; RM-9841]

Radio Broadcasting Services; McCook, NE

AGENCY: Federal Communications Commission.

ACTION: Final rule.

SUMMARY: The Commission, at the request of McCook Radio Group, LLC, allots Channel 280C2 to McCook, NE, as the community's fifth local commercial FM service. See 65 FR 34997, June 1, 2000. Channel 280C2 can be allotted to McCook in compliance with the Commission's minimum distance separation requirements without the imposition of a site restriction, at coordinates 40-12-18 NL; 100-37-36 WL. The Commission also editorially amends the FM Table of Allotments to reflect the grant of Station KRKU's one-step upgrade application to operate on Channel 253C1 in lieu of Channel 253C2 at McCook. A filing window for Channel 280C2 at McCook will not be opened at this time. Instead, the issue of opening a filing window for this channel will be addressed by the Commission in a subsequent order.

DATES: Effective December 11, 2000.

FOR FURTHER INFORMATION CONTACT: Leslie K. Shapiro, Mass Media Bureau, (202) 418-2180.

SUPPLEMENTARY INFORMATION: This is a synopsis of the Commission's Report and Order, MM Docket No. 00-82, adopted October 11, 2000, and released October 20, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of Title 47 of the Code of Federal Regulations is amended as follows:

47 CFR PART 73—RADIO BROADCAST SERVICES

1. The authority citation for part 73 continues to read as follows:

Authority: 47 U.S.C. 154, 303, 334 and 336.

§ 73.202 [Amended]

2. Section 73.202(b), the Table of FM Allotments under Nebraska, is amended by removing Channel 253C2 and adding Channel 253C1 and Channel 280C2 at McCook.

Federal Communications Commission.
John A. Karousos,
Chief, Allocations Branch, Policy and Rules Division, Mass Media Bureau.

[FR Doc. 00-28885 Filed 11-9-00; 8:45 am]

BILLING CODE 6712-01-U